ENVIRONMENTAL PROTECTION AGENCY

[FRL-9914-05-OA]

Request for Nominations of Experts To Augment the Science Advisory Board Ecological Process and Effects Committee for the Consultation and Review of Lake Erie Phosphorous Objectives

AGENCY: Environmental Protection Agency (EPA).

ACTION: Notice.

SUMMARY: The Environmental Protection Agency (EPA) Science Advisory Board (SAB) Staff Office requests public nominations of scientific experts to augment the SAB Ecological Process and Effects Committee (EPEC) to form a panel to provide early advice on and subsequent review of preliminary bi-national phosphorous objectives, loading targets and allocations for the nearshore and offshore waters to achieve the Lake Ecosystem Objectives for Lake Erie, pursuant to the Nutrients Annex (Annex 4) of the 2012 Great Lakes Water Quality Agreement (GLWQA).

DATES: Nominations should be submitted by August 8, 2014 per the instructions below.

FOR FURTHER INFORMATION CONTACT: Any member of the public wishing further information regarding this Notice and Request for Nominations may contact the Designated Federal Officer. Nominators unable to submit nominations electronically as described below may contact the Designated Federal Officers for assistance. General information concerning the EPA SAB can be found at the EPA SAB Web site at http://www.epa.gov/sab.

SUPPLEMENTARY INFORMATION: Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB Ecological Process and Effects Committee (EPEC) is a subcommittee of the SAB that provides advice through the chartered SAB on technical issues related to EPA environmental programs and the supporting science and research to protect, sustain and restore the health of ecosystems. The SAB and the EPEC, augmented with additional experts, will comply with the provisions of FACA and all appropriate SAB Staff Office procedural policies.

EPA Region 5 is co-leading a binational workgroup to develop and implement the Nutrients Annex (“Annex 4”) of the 2012 Great Lakes Water Quality Agreement (GLWQA) in accordance with Article 3(b)(i) of the GLWQA. Under Annex 4, the U.S. and Canada are charged with establishing binational Substance Objectives for phosphorus concentrations, loading targets and allocations for the nearshore and offshore waters of Lake Erie by February 2016. The general approach is to use an ensemble of Lake Erie ecosystem models to compute appropriate load-response relationships for eutrophication response indicators of concern. EPA Region 5 requested an SAB consultation (i.e., early advice) on the appropriateness of modeling approaches to meet the GLWQA Lake Ecosystem Objectives. EPA is also requesting a subsequent review of the modeled phosphorus targets and loads to obtain advice on (1) whether these targets and loads are sufficient to meet the Lake Ecosystem Objectives as defined in the GLWQA and (2) whether the modeled results reflect the best available information on the phosphorous sources and trophic status of Lake Erie.

Technical Contact for EPA's draft assessments: For information concerning the GLWQA Annex 4 please contact Ms. Santina Wortman, Water Division, US EPA Region 5, 77 West Jackson Boulevard (WW-16J), Chicago, Illinois 60604, phone (312) 353-8319.

Request for Nominations: The SAB Staff Office is seeking nominations of nationally and internationally recognized scientists with demonstrated expertise and research to augment the EPEC and form an augmented standing committee for an early consultation and subsequent review of the binational phosphorous objectives, loading targets and allocations for the nearshore and offshore waters to achieve the Lake Ecosystem Objectives for Lake Erie. For this effort the SAB Staff Office seeks experts in one or more of the following areas, algal and cyanobacteria ecology, aquatic ecology, hydrology, limnology, ecosystem modeling, and nutrient fate and transport. Questions regarding this advisory activity should be directed to Mr. Thomas Carpenter, Designated Federal Officer (DFO), SAB Staff Office, by telephone/voice mail at (202) 564-4885, by fax at (202) 565-2098, or via email at carpenter.thomas@epa.gov.

Process and Deadline for Submitting Nominations: Any interested person or organization may nominate qualified individuals in the areas of expertise described above for possible service on the augmented EPEC panel identified in this notice. Nominations should be submitted in electronic format (preferred over hard copy) following the instructions for “Nominating Experts to Advisory Panels and Ad Hoc Committees Being Formed,” provided on the SAB Web site (see the “Nomination of Experts” link on the blue navigational bar at http://www.epa.gov/sab). To receive full consideration, nominations should include all of the information requested below. EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB Web site, should contact Mr. Thomas Carpenter as indicated above in this notice. Nominations should be submitted in time to arrive no later than August 8, 2014. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff, will be posted in a List of Candidates for each of the three panels on the SAB Web site at http://www.epa.gov/sab.

Public comments on each List of Candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming these expert panels, the SAB Staff Office will consider public comments on the Lists of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and, (f) for the panel as a whole, diversity of expertise and scientific points of view.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which include membership on an EPA federal advisory committee) and private interests and activities, or the appearance of a lack of impartiality, as defined by federal regulation. The form may be viewed and downloaded from the following URL address http://yosemite.epa.gov/sab/sabproduct.nsf/Web/ethics?OpenDocument.

The approved policy under which the EPA SAB Office selects members for subcommittees and review panels is described in the following document: Overview of the Panel Formation Process at the Environmental Protection Agency Science Advisory Board (EPA-SAB-EC-02-010), which is posted on the SAB Web site at http://www.epa.gov/sab/pdf/ec02010.pdf.

Dated: July 10, 2014.
Thomas H. Brennan,
Deputy Director, Science Advisory Board Staff Office.

[FR Doc. 2014-16917 Filed 7-17-14; 8:45 am]

BILLING CODE 6560-50-P